DEPARTMENT OF TRANSPORTATION

Federal Aviation Administration

14 CFR Part 39

[Docket No. FAA-2010-0155; Directorate Identifier 2010-NM-026-AD; Amendment 39-16210; AD 2010-05-01]

RIN 2120-AA64

Airworthiness Directives; ATR-GIE Avions de Transport Régional Model ATR42 and ATR72 Airplanes

AGENCY: Federal Aviation Administration (FAA), Department of Transportation (DOT).

ACTION: Final rule; request for comments.

SUMMARY: We are adopting a new airworthiness directive (AD) for the products listed above. This AD results from mandatory continuing airworthiness information (MCAI) originated by an aviation authority of another country to identify and correct an unsafe condition on an aviation product. The MCAI describes the unsafe condition as:

The Civil Aviation Authority of the United Kingdom (UK) has informed EASA [European Aviation Safety Agency] that significant quantities of Halon 1211 gas, determined to be outside the required specification, have been supplied to the aviation industry for use in fire extinguishing equipment. * * *

* * * * *

* * * This Halon 1211 has subsequently been used to fill certain * * * portable fire extinguishers that are now likely to be installed in or carried on board ATR aeroplanes.

The contaminated nature of this gas, when used against a fire, may provide reduced fire suppression, endangering the safety of the aeroplane and its occupants. In addition, extinguisher activation may lead to the release of toxic fumes, possibly causing injury to aeroplane occupants.

* * * * *

This AD requires actions that are intended to address the unsafe condition described in the MCAI.

DATES: This AD becomes effective March 12, 2010.

The Director of the Federal Register approved the incorporation by reference of certain publications listed in the AD as of March 12, 2010.

We must receive comments on this AD by April 12, 2010.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (telephone (800) 647-5527) is in the ADDRESSES section. Comments will be available in the AD docket shortly after receipt.

FOR FURTHER INFORMATION CONTACT: Tom Rodriguez, Aerospace Engineer, International Branch, ANM-116, Transport Airplane Directorate, FAA, 1601 Lind Avenue, SW., Renton, Washington 98057-3356; telephone (425) 227-1137; fax (425) 227-1149.

SUPPLEMENTARY INFORMATION:

Discussion

The European Aviation Safety Agency (EASA), which is the Technical Agent for the Member States of the European Community, has issued EASA Airworthiness Directive 2009-0276R1, dated February 5, 2010 (referred to after this as “the MCAI”), to correct an unsafe condition for the specified products. The MCAI states:

The Civil Aviation Authority of the United Kingdom (UK) has informed EASA that significant quantities of Halon 1211 gas, determined to be outside the required specification, have been supplied to the aviation industry for use in fire extinguishing equipment. Halon 1211 (BCF) is used in lavatory waste bin fire extinguishers and portable fire extinguishers, usually fitted or stowed in aircraft passenger cabins and flight decks.

EASA published Safety Information Bulletin (SIB) 2009-39 on 23 October 2009 to make the aviation community aware of this safety concern.

The results of the ongoing investigation have now established that LyonTech Engineering Ltd, a UK-based company, has supplied further consignments of Halon 1211 (BCF) to L'Hotellier that do not meet the required specification. This Halon 1211 has subsequently been used to fill certain P/N 863521-01 portable fire extinguishers that are now likely to be installed in or carried on board ATR aeroplanes.

The contaminated nature of this gas, when used against a fire, may provide reduced fire suppression, endangering the safety of the aeroplane and its occupants. In addition, extinguisher activation may lead to the release of toxic fumes, possibly causing injury to aeroplane occupants.

For the reasons described above, this EASA AD requires the identification and removal from service of certain batches of fire extinguishers and replacement with serviceable units.

This [EASA] AD has been revised to extend the compliance time.

You may obtain further information by examining the MCAI in the AD docket.

Relevant Service Information

L'Hotellier has issued Service Bulletins 863521-26-001, Revision 1, dated January 28, 2010; and Revision 2, dated February 4, 2010. The actions described in this service information are intended to correct the unsafe condition identified in the MCAI.

Other Relevant Rulemaking

We issued AD 2010-01-03, amendment 39-16159 (75 FR 221, January 5, 2010), on December 28, 2009. That AD applies to certain portable fire extinguishers manufactured by Fire Fighting Enterprises Limited that contain suspect Halon gas and that are installed on (or carried or stowed on board) a broad range of airplanes and rotorcraft including but not limited to those listed in Table 1 of that AD. Although ATR-GIE Avions de Transport Régional airplanes are not listed in Table 1 of the applicability of AD 2010-01-03, they are affected by that AD.

This AD affects only ATR-GIE Avions de Transport Régional airplanes that have certain portable fire extinguishers manufactured by L'Hotellier that contain suspect Halon gas. We are able to be specific in this AD because L'Hotellier fire extinguishers are installed on Model ATR42 and ATR72 airplanes as part of their type design, and these fire extinguishers do not hold an FAA-approval independent of their installation. Therefore, this AD addresses the identified unsafe condition for those airplanes that have L'Hotellier fire extinguishers having the part number and serial numbers specified in this AD.

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of the same type design.

Differences Between the AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow FAA policies. Any such differences are highlighted in a NOTE within the AD.

FAA's Determination of the Effective Date

An unsafe condition exists that requires the immediate adoption of this AD. The FAA has found that the risk to the flying public justifies waiving notice and comment prior to adoption of this rule because contaminated Halon 1211 gas has been used to fill certain portable fire extinguishers installed on Model ATR42 and ATR72 airplanes. Contaminated Halon 1211 gas, when used against a fire, may have reduced fire suppression capabilities, endangering the safety of the aircraft and its occupants. In addition, extinguisher activation may release toxic fumes that could possibly cause injury to aircraft occupants. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2010-0155; Directorate Identifier 2010-NM-026-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2010-05-01 ATR-GIE Avions de Transport Régional: Amendment 39-16210. Docket No. FAA-2010-0155; Directorate Identifier 2010-NM-026-AD.

Effective Date

(a) This airworthiness directive (AD) becomes effective March 12, 2010.

Affected ADs

(b) None.

Applicability

(c) This AD applies to ATR-GIE Avions de Transport Régional Model ATR42-200, -300, -320, and -500 airplanes; and Model ATR72-101, -201, -102, -202, -211, -212, and -212A airplanes; certificated in any category, all serial numbers, equipped with L'Hotellier Halon 1211 (BCF) fire extinguishers, having part number (P/N) 863521-01 and having any serial number identified in paragraph 1.A. of L'Hotellier Service Bulletin 863521-26-001, Revision 2, dated February 4, 2010.

Subject

(d) Air Transport Association (ATA) of America Code 26: Fire Protection.

Reason

(e) The mandatory continued airworthiness information (MCAI) states:

The Civil Aviation Authority of the United Kingdom (UK) has informed EASA [European Aviation Safety Agency] that significant quantities of Halon 1211 gas, determined to be outside the required specification, have been supplied to the aviation industry for use in fire extinguishing equipment. Halon 1211 (BCF) is used in lavatory waste bin fire extinguishers and portable fire extinguishers, usually fitted or stowed in aircraft passenger cabins and flight decks.

EASA published Safety Information Bulletin (SIB) 2009-39 on 23 October 2009 to make the aviation community aware of this safety concern.

The results of the ongoing investigation have now established that LyonTech Engineering Ltd, a UK-based company, has supplied further consignments of Halon 1211 (BCF) to L'Hotellier that do not meet the required specification. This Halon 1211 has subsequently been used to fill certain P/N 863521-01 portable fire extinguishers that are now likely to be installed in or carried on board ATR aeroplanes.

The contaminated nature of this gas, when used against a fire, may provide reduced fire suppression, endangering the safety of the aeroplane and its occupants. In addition, extinguisher activation may lead to the release of toxic fumes, possibly causing injury to aeroplane occupants.

For the reasons described above, this EASA AD requires the identification and removal from service of certain batches of fire extinguishers and replacement with serviceable units.

This [EASA] AD has been revised to extend the compliance time.

Compliance

(f) You are responsible for having the actions required by this AD performed within the compliance times specified, unless the actions have already been done.

Actions

(g) Within 90 days after the effective date of this AD, replace all L'Hotellier fire extinguishers having P/N 863521-01 and having any serial number identified in paragraph 1.A. of L'Hotellier Service Bulletin 863521-26-001, Revision 2, dated February 4, 2010, with serviceable fire extinguishers.

(h) As of the effective date of this AD, do not install any L'Hotellier fire extinguisher having P/N 863521-01 and having any serial number identified in paragraph 1.A. of L'Hotellier Service Bulletin 863521-26-001, Revision 2, dated February 4, 2010, on any airplane, unless it has been reconditioned with compliant Halon 1211 (BCF) and re-identified, in accordance with the Accomplishment Instructions of L'Hotellier Service Bulletin 863521-26-001, Revision 1, dated January 28, 2010; or Revision 2, dated February 4, 2010.

FAA AD Differences

Note 1: This AD differs from the MCAI and/or service information as follows:

(1) EASA AD 2009-0276R1, dated February 5, 2010, specifies a time of 4 months to do the actions. This AD requires that the actions be done within 90 days. We have determined that a 90-day compliance time will ensure an acceptable level of safety.

(2) EASA AD 2009-0276R1, dated February 5, 2010, includes fire extinguishers having certain serial numbers in its applicability. The EASA AD also includes a requirement to inspect to determine if the fire extinguishers have those serial numbers and replacement if necessary. Since the affected fire extinguishers are part of the applicability, it is not necessary to also require inspecting for them. Therefore, this AD includes fire extinguishers having certain serial numbers in its applicability and does not include an additional requirement to inspect for serial numbers; this AD requires replacement of all affected fire extinguishers.

Other FAA AD Provisions

(i) The following provisions also apply to this AD:

(1) Alternative Methods of Compliance (AMOCs): The Manager, International Branch, ANM-116, Transport Airplane Directorate, FAA, has the authority to approve AMOCs for this AD, if requested using the procedures found in 14 CFR 39.19. Send information to ATTN: Tom Rodriguez, Aerospace Engineer, International Branch, ANM-116, Transport Airplane Directorate, FAA, 1601 Lind Avenue, SW., Renton, Washington 98057-3356; telephone (425) 227-1137; fax (425) 227-1149. Before using any approved AMOC on any airplane to which the AMOC applies, notify your principal maintenance inspector (PMI) or principal avionics inspector (PAI), as appropriate, or lacking a principal inspector, your local Flight Standards District Office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(j) Refer to MCAI EASA Airworthiness Directive 2009-0276R1, dated February 5, 2010; and L'Hotellier Service Bulletins 863521-26-001, Revision 1, dated January 28, 2010, and Revision 2, dated February 4, 2010; for related information.

Material Incorporated by Reference

(k) You must use L'Hotellier Service Bulletin 863521-26-001, Revision 1, dated January 28, 2010; or L'Hotellier Service Bulletin 863521-26-001, Revision 2, dated February 4, 2010; to do the actions required by this AD, unless the AD specifies otherwise.

(1) The Director of the Federal Register approved the incorporation by reference of this service information under 5 U.S.C. 552(a) and 1 CFR part 51.

(2) For service information identified in this AD, contact L'Hotellier Repair Station, 4 rue Henri Poincaré, 92167 ANTONY Cedex, France, Attn: Product Support; telephone +33 (0)1 55 59 09 65; fax +33 (0)1 46 66 66 71; e-mail Sylvie.LaRuffa@hs.utc.com or Alain.Dorneau@hs.utc.com.

(3) You may review copies of the service information at the FAA, Transport Airplane Directorate, 1601 Lind Avenue, SW., Renton, Washington. For information on the availability of this material at the FAA, call 425-227-1221 or 425-227-1152.

(4) You may also review copies of the service information that is incorporated by reference at the National Archives and Records Administration (NARA). For information on the availability of this material at NARA, call 202-741-6030, or go to: http://www.archives.gov/federal_register/code_of_federal_regulations/ibr_locations.html.

Issued in Renton, Washington, on February 11, 2010.
Ali Bahrami,
Manager, Transport Airplane Directorate, Aircraft Certification Service.

[FR Doc. 2010-3558 Filed 2-24-10; 8:45 am]

BILLING CODE 4910-13-P